DEPARTMENT OF HEALTH AND HUMAN SERVICES

Administration for Children and Families

Administration on Children, Youth, and Families; Notice of Award of Non-Competitive Grant

AGENCY: Administration on Children, Youth and Families, ACF, HHS.

ACTION: Award announcement.

SUMMARY: The Administration on Children, Youth and Families herein announces an urgent grant award to the National Association of Child Care Resource and Referral Agencies (NACCRRA) to provide technical assistance to reestablish the operations of the resource and referral agencies in Mississippi and Louisiana whose operations have been disrupted by Hurricane Katrina. This grant will help to re-establish child care referral services so that families along the Gulf Coast can find child care. This grant will also support local and Statewide inventories of child care need and availability.

The amount of the proposed grant to NACCRRA is $99,500 in FY 2005 child care funds. The duration of the grant is 12 months.

Statutory Authority: This award will be made pursuant to the Child Care and Development Block Grant Act of 1990 as amended (CCDBG Act); section 418 of the Social Security Act; Consolidated Appropriations Act, 2001 (Pub. L. 106-554).

FOR FURTHER INFORMATION CONTACT: Shannon Rudisill, Director of Technical Assistance, Child Care Bureau, at 202-205-8051.

Dated: September 27, 2005.
Joan E. Ohl,
Commissioner, Administration on Children, Youth and Families.

[FR Doc. 05-19650 Filed 9-30-05; 8:45 am]

BILLING CODE 4184-01-P